DEPARTMENT OF THE INTERIOR

Bureau of Land Management

[LLHQ310000.L13100000.PP0000; OMB Control No. 1004-0185]

Agency Information Collection Activities; Onshore Oil and Gas Leasing, and Drainage Protection

AGENCY: Bureau of Land Management, Interior.

ACTION: Notice of information collection; request for comment.

SUMMARY: In accordance with the Paperwork Reduction Act of 1995 (PRA), the Bureau of Land Management (BLM) proposes to renew an information collection.

DATES: Interested persons are invited to submit comments on or before December 22, 2021.

ADDRESSES: Written comments and recommendations for the proposed information collection request (ICR) should be sent within 30 days of publication of this notice to www.reginfo.gov/public/do/PRAMain. Find this particular information collection by selecting “Currently under 30-day Review—Open for Public Comments” or by using the search function.

FOR FURTHER INFORMATION CONTACT: To request additional information about this ICR, contact Jennifer Spencer by email at j35spenc@blm.gov, or by telephone at 307-775-6261. Individuals who are hearing or speech impaired may call the Federal Relay Service at 1-800-877-8339 for TTY assistance. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on August 9, 2021 (86 FR 43563). One comment was received in response to that notice. The commentor noted that an annual frequency of collection was too frequent for this collection of information and that the frequency should be every three years. However, the information is not collected annually but rather on occasion initiated by certain events pursuant to covered onshore oil and gas leases.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The BLM collects information to monitor and enforce compliance with drainage protection and other requirements pertaining to Federal and Indian oil and gas leasing and operations (except on the Osage Reservation). This request of for OMB to renew this OMB control number for an additional three years.

There are no program or policy changes proposed with this renewal request. However, the BLM is projecting that the estimated burden for this OMB control number will be adjusted downward. Therefore, the BLM request a reduction of 5,241 annual burden hours (from 42,936 to 37,695) and a reduction of $2,526,933 annual non-hour burden cost (from $3,278,348 to $751,415). These adjustments are a result of a reduction in the number of respondents to the collections of information under OMB control number 1004-0185 (from 19,711 to 9,131) and updating the number of responses for certain information collections activities.

Title of Collection: Onshore Oil and Gas Leasing, and Drainage Protection (43 CFR parts 3100, 3120, and 3150, and Subpart 3162).

OMB Control Number: 1004-0185.

Form Numbers: None.

Type of Review: Extension of a currently approved collection.

Respondents/Affected Public: Holders of onshore oil and gas lease and public lands and Indian lands (except on the Osage Reservation), operators of such leases, and holders of operating rights on such leases.

Total Estimated Number of Annual Respondents: 9,131.

Total Estimated Number of Annual Responses: 9,132.

Estimated Completion Time per Response: Varies from 1 hour to 24 hours per response, depending on activity.

Total Estimated Number of Annual Burden Hours: 37,695.

Respondent's Obligation: Required to obtain or retain a benefit.

Frequency of Collection: “On occasion,” except for the activity titled “Option statement,” which is required twice a year.

Total Estimated Annual Non-Hour Burden Cost: $751,415.

An agency may not conduct or sponsor and, notwithstanding any other provision of law, a person is not required to respond to a collection of information unless it displays a currently valid OMB control number.

The authority for this action is the Paperwork Reduction Act of 1995 (44 U.S.C. 3501 et seq.).

Darrin King,
Information Collection Clearance Officer.

[FR Doc. 2021-25331 Filed 11-19-21; 8:45 am]

BILLING CODE 4310-84-P